DEPARTMENT OF DEFENSE

Office of the Secretary

[DoD-2006-OS-0064]

Design Criteria Standard for Electronic Records Management Software Applications

AGENCY: Department of Defense.

ACTION: Notice of Availability.

SUMMARY: The DoD Standard, “Design Criteria Standard for Electronic Records Management Software Applications” is being revised. This document sets forth the baseline functional requirements for records management application (RMA) software. A draft of the revised document is available for review and comment.

Version 1 of DOD 5015.2-STD was issued November 24, 1997 and addressed basic requirements for RMA software. On June 19, 2002, Version 2 was issued, and was later endorsed by National Archives and Records Administration (NARA) as a standard for use by all federal agencies. Version 2 expanded on previous requirements and added requirements for tracking classified records.

Version 3 of the standard completes e-Government initiative taskings to both DoD and NARA. It incorporates baseline requirements for RMA to RMA inteoperability and archival transfer to NARA. Furthermore, this version encourages the development of RMA software to adhere to DoD net-centric information sharing principles. The DoD Components will use this standard in the implementation of their records management programs. Additionally, this standard is widely used throughout the U.S. by numerous states and counties as well as many foreign governments. The new net-centric thrust of this standard should be influential well beyond the Department of Defense.

DATES: Submit comments by September 25, 2006.

ADDRESSES: A copy of the document may be found at http://jitc.fhu.disa.mil/recmgt. You may submit comments, identified by docket number and or RIN number and title, by any of the following methods:

• Federal eRulemaking Portal: http://www.regulations.gov. Follow the instructions for submitting comments.

• Mail: Federal Docket Management System Office, 1160 Defense Pentagon, Washington, DC 20301-1160.

Instructions: All submissions received must include the agency name and docket number or Regulatory Information Number (RIN) for this Federal Register document. the general policy for comments and other submissions from members of the pubic is to make these submissions available for public viewing on the Internet at http://regulations.gov as they are received without change, including any personal identifiers or contact information.

FOR FURTHER INFORMATION CONTACT: Ms. Harriet J. Riofrio, telephone (703) 602-0816 or harriet.riofrio@osd.mil.

SUPPLEMENTARY INFORMATION: The Department of Defense is requesting review and comment on version 3 of DoD's 5015.2 standard, “Design Criteria Standard for Electronic Records Management Software Applications”. Version 1 of DoD 5015.2-STD was issued November 24, 1997 and addressed basic requirements for electronic records management applications. On November 18, 1998, the Archivist of the United States sent a letter to the ASD(C3I), stating that DoD 5015.2-STD conformed with the requirements of the Federal Records Act and the implementing records management regulations found in 36 Code of Federal Regulations, 1220-1238. DoD Directive 5015.2 issued March 6, 2000 restated that it is DoD policy to create, maintain, and preserve information as records, in any media, that document the transaction of business and mission in wartime and peacetime to provide evidence of DoD Component organization, functions, policies, procedures, decisions, and activities as provided in Chapter XII of 36 CFR, Chapters 29, 31, 33, 35 of 44 U.S.C. and DoD 5015.2-STD.

Version 2 of DoD 5015.2-STD was issued on June 19, 2002, and endorsed by NARA on January 15, 2003 as a standard for use by all federal agencies. Version 2 expanded onPervious requirements and added new requirements for RMAs to manage classics records.

Version 3 represents the ongoing development of the standard and the DoD's RMA needs, in partnership with NARA. The new proposed version incorporates additional baseline requirements for RMA to RMA interoperability, archival transfer of records to NARA, and encourages the development of RMA software that adheres to the DoD's net-centric information sharing principles. The DoD Components will use this standard in the implementation of their records management programs. This standard, endorsed by NARA for Federal agencies, has been traditionally used throughout the U.S. by numerous states and counties as well as many foreign governments. As this standard is so widely used outside of DoD, comments and suggestions are solicited to assess its utility to many user communities.

Dated: July 21, 2006.
L.M. Bynum,
OSD Federal Register Liaison Officer, DoD.

[FR Doc. 06-6513 Filed 7-26-06; 8:45 am]

BILLING CODE 5001-06-M